DEPARTMENT OF HOMELAND SECURITY

Federal Emergency Management Agency

Open Meeting, Board of Visitors for the National Fire Academy

AGENCY: U.S. Fire Administration (USFA), FEMA, Emergency Preparedness and Response, Homeland Security.

ACTION: Notice of open meeting.

SUMMARY: In accordance with section 10(a)(2) of the Federal Advisory Committee Act, 5 U.S.C. App. 2, FEMA announces the following committee meeting:

Name: Board of Visitors (BOV) for the National Fire Academy.

DATES: May 6-7, 2004.

Place: Building H, Room 300, National Emergency Training Center, Emmitsburg, Maryland.

Time: May 6, 2004, 11 a.m.-5 p.m. May 7, 2004, 8:30 a.m.-5 p.m.

Proposed Agenda: May 6-7, Review National Fire Academy Program Activities.

SUPPLEMENTARY INFORMATION: The meeting will be open to the public with seating available on a first-come, first-served basis. Members of the general public who plan to attend the meeting should contact the Office of the Superintendent, National Fire Academy, U.S. Fire Administration, 16825 South Seton Avenue, Emmitsburg, MD 21727, (301) 447-1117, on or before April 30, 2004.

Minutes of the meeting will be prepared and will be available for public viewing in the Office of the U.S. Fire Administrator, U.S. Fire Administration, Federal Emergency Management Agency, Emmitsburg, Maryland 21727. Copies of the minutes will be available upon request within 60 days after the meeting.

Dated: March 31, 2004.
R. David Paulison,
U.S. Fire Administrator, Director of the Preparedness Division.

[FR Doc. 04-8112 Filed 4-8-04; 8:45 am]

BILLING CODE 9110-17-P